DEPARTMENT OF HOMELAND SECURITY

Coast Guard

[USCG-2004-19621]

Dry Cargo Residue Discharges in the Great Lakes; Preparation of Environmental Impact Statement

AGENCY: Coast Guard, DHS.

ACTION: Notice of intent; notice of availability; request for comments.

SUMMARY: The Coast Guard announces its intent to prepare an environmental impact statement (EIS) in connection with the development of proposed new regulations on the incidental discharge of dry cargo residue in the Great Lakes. Publication of this notice begins a public scoping process that will help determine the scope of issues to be addressed in the EIS and identify the significant environmental issues related to this EIS (40 CFR 1506.6). This notice also solicits public participation in the scoping process, and announces the availability of a study on current dry cargo residue discharge practices in the Great Lakes.

DATES: Comments and related material must reach the Docket Management Facility on or before July 31, 2006.

ADDRESSES: You may submit comments identified by Coast Guard docket number USCG-2004-19621 to the Docket Management Facility at the U.S. Department of Transportation.

Address docket submissions for USCG-2004-19621 to: Docket Management Facility, U.S. Department of Transportation, 400 Seventh Street SW., Washington, DC 20590-0001.

The Docket Management Facility accepts hand-delivered submissions, and makes docket contents available for public inspection and copying at this address, in room PL-401, between 9 a.m. and 5 p.m., Monday through Friday, except Federal holidays. The Facility's telephone is 202-366-9329, its fax is 202-493-2251, and its Web site for electronic submissions or for electronic access to docket contents is http://dms.dot.gov.

FOR FURTHER INFORMATION CONTACT: If you have questions regarding this notice, contact LCDR Mary Sohlberg, U.S. Coast Guard, fax 202-267-4690 or e-mail msohlberg@comdt.uscg.mil. If you have questions on viewing or submitting material to the docket, call Renee V. Wright, Program Manager, Docket Operations, telephone 202-493-0402.

SUPPLEMENTARY INFORMATION:

Request for Comments

We request public comments or other relevant information on environmental issues related to all aspects of incidental dry cargo residue discharges on the Great Lakes. You can submit comments to the Docket Management Facility during the public comment period (see DATES). We will consider all comments and material received during the comment period.

Submissions should include:

• Docket number USCG-2004-19621.

• Your name and address.

• Your reasons for making each comment or for bringing information to our attention.

Submit comments or material using only one of the following methods:

• Electronic submission to DMS, http://dms.dot.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the DMS Web site (http://dms.dot.gov), and will include any personal information you provide. Therefore, submitting this information makes it public. You may wish to read the Privacy Act notice that is available on the DMS Web site, or the Department of Transportation Privacy Act Statement that appeared in the Federal Register on April 11, 2000 (65 FR 19477).

You may view docket submissions at the Docket Management Facility (see ADDRESSES), or electronically on the DMS Web site.

Background

The Coast Guard has previously published Federal Register documents concerning regulation of incidental dry cargo residue on the Great Lakes: 69 FR 1994 (January 13, 2004), 69 FR 57711 (September 27, 2004), 69 FR 77147 (December 27, 2004; corrected at 70 FR 1400, January 7, 2005).

The historical practice of bulk dry cargo vessels on the Great Lakes is to wash non-hazardous and non-toxic cargo residues (“dry cargo residue” or “cargo sweepings”) overboard. These non-hazardous non-toxic discharges eliminate unsafe conditions onboard the vessel, without requiring alternatives that could involve time delays or added cost. Current environmental statutes, if strictly enforced, would prohibit these incidental discharges. However, under an “interim enforcement policy” (IEP) first adopted by the Coast Guard's Ninth District in 1993, incidental discharges of dry cargo residue are permitted in defined portions of the Great Lakes. Congress has authorized continuation of the IEP until September 30, 2008, unless the Coast Guard acts sooner to replace the IEP with new regulations.

Dry cargo residue on the Great Lakes generally includes, but is not limited to, limestone and other clean stone, iron ore such as taconite, coal and salt, and cement. The IEP applies only to such cargo residues, and does not alter the strict prohibition of any discharge of oily waste, untreated sewage, plastics, dunnage, or other things commonly understood to be “garbage,” from vessels on the Great Lakes. Nor does the IEP permit the discharge of any substance known to be toxic or hazardous, such as nickel, copper, zinc, or lead. The IEP permits incidental dry cargo residue discharges only in areas that are relatively far from shore, and that meet depth restrictions and other restrictions near special protection areas.

Our December 27, 2004 Federal Register document (69 FR 77147; corrected at 70 FR 1400, January 7, 2005) announced that we would conduct a study of current dry cargo residue discharge practices in the Great Lakes, and requested information from the public that could help us conduct that study. The study is now complete and is available for public review either electronically or at the Docket Management Facility (see ADDRESSES and Request for Comments).

Proposed Action and Alternatives

The proposed action is to adopt the IEP as the basis for permanent regulations, adding new requirements for standardized record-keeping by vessels that discharge dry cargo residue. The discharges that require logging, the format for log entries, the retention time of the logs, and the physical location of the log would be specified. The alternatives to the proposed action include:

• Allowing the IEP to terminate on September 30, 2008, after which the Coast Guard would enforce all laws applicable to the discharge of dry cargo residues into the Great Lakes. For the purposes of our environmental review this represents the “no-action” alternative;

• Adopting the IEP as the basis for permanent regulations, without significant change;

• Adopting the IEP as the basis for permanent regulations, possibly with significant changes (other than record-keeping) designed to reduce the environmental impact. Possible changes would be specified and could include adoption of best management practices, quantity limits, cargo type limits, or additional restrictions on discharge locations;

• Developing a Coast Guard permit system for vessels discharging incidental dry cargo residue; and

• Regulating shoreside facilities to control or eliminate dry cargo spillage during vessel loading or unloading.

Scoping Process

The scoping process (40 CFR 1501.7) is an early and open process for determining the scope of issues to be addressed in an EIS and for identifying the significant issues related to the proposed action. The scoping process begins with publication of this notice and ends when the Coast Guard has completed the following actions:

• Invites the participation of Federal, State, and local agencies, any affected Indian tribe, the applicant, and other interested persons;

• Determines the actions, alternatives, and impacts described in 40 CFR 1508.25;

• Identifies and eliminates from detailed study those issues that are not significant or that are previously documented and can be incorporated by reference;

• Allocates responsibility for preparing EIS components;

• Indicates any related environmental assessments or environmental impact statements that are not part of the EIS;

• Identifies other relevant environmental review and consultation requirements;

• Indicates the relationship between timing of the environmental review and other aspects of the application process; and

• At its discretion, exercises the options provided in 40 CFR 1501.7(b).

The Coast Guard will publish a Federal Register Notice to announce a public meeting and will include the time, location, and venue for the meeting as part of the scoping process under NEPA for this action. The Coast Guard intends to announce these details after gauging the level of public interest in response to the current notice. Once the scoping process is complete, the Coast Guard will prepare a draft EIS, and we will publish a Federal Register notice announcing its public availability. If you wish to be mailed or e-mailed the public meeting notice or the draft EIS notice of availability, please contact the person named in FOR FURTHER INFORMATION CONTACT. We will provide the public with an opportunity to review and comment on the draft EIS. After the Coast Guard considers those comments, we will prepare the final EIS and similarly announce its availability and issue a Record of Decision 30 days later.

Dated: March 6, 2006.
Howard L. Hime,
Acting Director of Standards, Assistant Commandant for Prevention.

[FR Doc. 06-2258 Filed 3-6-06; 4:25 pm]

BILLING CODE 4910-15-P